ENVIRONMENTAL PROTECTION AGENCY

[EPA-HQ-OA-2019-0296; FRL-OP-OFA-22]

Proposed Information Collection Request; Comment Request; Procedures for Implementing the National Environmental Policy Act and Assessing the Environmental Effects Abroad of EPA Actions (Renewal)

AGENCY: Environmental Protection Agency (EPA).

ACTION: Notice.

SUMMARY: The Environmental Protection Agency is planning to submit an information collection request (ICR), “Procedures for Implementing the National Environmental Policy Act and Assessing the Environmental Effects Abroad of EPA Actions” (EPA ICR No. 2243.08, OMB Control No. 2020-0033) to the Office of Management and Budget (OMB) for review and approval in accordance with the Paperwork Reduction Act (PRA). Before doing so, the EPA is soliciting public comments on specific aspects of the proposed information collection as described below. This is a proposed extension of the ICR, which is currently approved through February 28, 2023. An Agency may not conduct, or sponsor and a person is not required to respond to a collection of information unless it displays a currently valid OMB control number.

DATES: Comments must be submitted on or before August 29, 2022.

ADDRESSES: Submit your comments, referencing Docket ID No. EPA-HQ-OA-2019-0296, online using www.regulations.gov (our preferred method) or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Candi Schaedle, NEPA Compliance Division, Office of Federal Activities, Mail Code 2501G, Environmental Protection Agency, 1200 Pennsylvania Ave. NW, Washington, DC 20460; telephone number: 202-564-6121; email address: schaedle.candi@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The National Environmental Policy Act of 1969 (NEPA), 42 U.S.C. 4321-4347 establishes a national policy for the environment. The Council on Environmental Quality (CEQ) oversees the NEPA implementation. CEQ's Regulations at 40 CFR parts 1500 through 1508 set the standard for NEPA compliance. They also require agencies to establish their own NEPA implementing procedures. The EPA's procedures for implementing NEPA are found in 40 CFR part 6. Through this part, the EPA adopted the CEQ Regulations and supplemented those regulations for actions proposed by the EPA that are subject to NEPA requirements. The EPA actions subject to NEPA include the award of wastewater treatment construction grants under section 201 of the Clean Water Act, the EPA's issuance of new source National Pollutant Discharge Elimination System (NPDES) permits under section 402 of the Clean Water Act, certain research and development projects, the EPA actions involving renovations or new construction of EPA facilities, and certain grants awarded for projects authorized by Congress through the agency's annual appropriations act. The EPA is collecting information from certain applicants as part of the process of complying with either NEPA or Executive Order 12114 (“Environmental Effects Abroad of Major Federal Actions”). The EPA's NEPA regulations apply to actions of the EPA that are subject to NEPA in order to ensure that environmental information is available to the agency's decision-makers and the public before decisions are made and before actions are taken. When the EPA conducts an environmental assessment pursuant to its Executive Order 12114 procedures, the agency generally follows its NEPA procedures. Compliance with the procedures is the responsibility of the EPA's Responsible Officials, and for applicant proposed actions, applicants may be required to provide environmental information to the EPA as part of the environmental review process. For this ICR, applicant-proposed projects subject to either NEPA or Executive Order 12114 (and that are not addressed in other EPA programs' ICRs) are addressed through the NEPA process.

Form Numbers: None.

Respondents/affected entities: Entities potentially affected by this action are certain grant or permit applicants who must submit environmental information documentation to the EPA for their projects to comply with NEPA or Executive Order 12114, including Wastewater Treatment Construction Grants Program facilities funded under section 201 of the Clean Water Act, State and Tribal Assistance Grant recipients, and new source NPDES permittees.

Respondent's obligation to respond: Voluntary.

Estimated number of respondents: 516 (total).

Frequency of response: On occasion.

Total estimated burden: 27,004 hours (per year). Burden is defined at 5 CFR 1320.03(b).

Total estimated cost: $2,290,209 (per year), includes $0 annualized capital or operation & maintenance costs.

Changes in Estimates: There is an increase of 19,444 hours in the total estimated respondent burden compared with the ICR currently approved by OMB. This increase is due to an adjustment change in the size of the respondent universe due to the return of congressional earmarks in the EPA annual appropriations act.

Dated: June 23, 2022.
Robert Tomiak,
Director, Office of Federal Activities.

[FR Doc. 2022-13790 Filed 6-27-22; 8:45 am]

BILLING CODE 6560-50-P